DEPARTMENT OF JUSTICE

Notice of Lodging of a Consent Decree Under the Comprehensive Environmental Response, Compensation, and Liability Act

Notice is hereby given that on July 28, 2010 a proposed Consent Decree (“proposed Decree”) in United States of America v. Ray Crosby, Civil Action No. 2:10-cv-00715-BCW was lodged with the United States District Court for the District of Utah, Central Division.

In this action under Section 107(a) of the Comprehensive Environmental Response, Compensation, and Liability Act (“CERCLA”), 42 U.S.C. 9607(a), the United States sought to recover response costs incurred by the United States Environmental Protection Agency (“EPA”) as a result of releases and threatened releases of hazardous substances from the South West Assay Superfund Site (“the Site”), a former ore processing site located approximately one mile west of Leeds, Utah. The proposed Decree requires the defendant to pay $100,000, in two installments of $50,000, to the United States in reimbursement for a portion of EPA's past response costs at the Site. Mr. Crosby owned the Site at the time of the release or threatened release of hazardous substances and he remains the current owner.

The Department of Justice will receive, for a period of thirty (30) days from the date of this publication, comments relating to the proposed Decree. Comments should be addressed to the Assistant Attorney General, Environment and Natural Resources Division, and either e-mailed to pubcomment-ees.enrd@usdoj.gov or mailed to P.O. Box 7611, U.S. Department of Justice, Washington D.C. 20044-7611, and should refer to United States of America v. Ray Crosby, D.J. Ref. 90-11-3-09741.

The proposed Decree may be examined at the Office of the United States Attorney, located at 185 South State Street, Suite 300, Salt Lake City, Utah, and at the office of U.S. EPA Region 8, located at 1595 Wynkoop Street, Denver, Colorado. During the public comment period, the proposed Decree may also be examined on the following Department of Justice website: http://www.usdoj.gov/enrd/Consent_Decrees.html. A copy of the proposed Decree may also be obtained by mail from the Consent Decree Library, P.O. Box 7611, U.S. Department of Justice, Washington, DC 20044-7611 or by e-mailing or faxing a request to Tonia Fleetwood: e-mail “tonia.fleetwood@usdoj.gov”; fax number (202) 514-0097; phone confirmation number (202) 514-1547. In requesting a copy from the Consent Decree Library, please enclose a check in the amount of $4.00 (25 cents per page reproduction cost) payable to the U.S. Treasury or, if by e-mail or fax, forward a check in that amount to the Consent Decree Library at the stated address.

Maureen Katz,
Assistant Section Chief, Environmental Enforcement Section, Environment and Natural Resources Division.

[FR Doc. 2010-19102 Filed 8-3-10; 8:45 am]

BILLING CODE 4410-15-P